ENVIRONMENTAL PROTECTION AGENCY

[FRL-8693-7]

Notice of Open Meeting of the Environmental Financial Advisory Board (EFAB)

AGENCY: Environmental Protection Agency (EPA).

ACTION: Notice.

SUMMARY: The United States Environmental Protection Agency's (EPA) Environmental Financial Advisory Board (EFAB) will hold an open meeting on August 4-5, 2008. EFAB is an EPA advisory committee chartered under the Federal Advisory Committee Act (FACA) to provide advice and recommendations to EPA on creative approaches to funding environmental programs, projects, and activities. A meeting of the full board will be held to discuss progress with work products under EFAB's current Strategic Action Agenda and develop an action agenda to direct the Board's ongoing and new activities through FY 2009. Topics of discussion include financial assurance mechanisms; financing ecosystem services; leveraging the state revolving funds; and use of assessments and special districts in air pollution. The meeting is open to the public; however, seating is limited. All members of the public who wish to attend the meeting must register in advance, no later than Monday, July 21, 2008.

DATES: August 4, 2008 from 1 p.m.-5 p.m. and August 5, 2008 from 8:30 a.m.-5 p.m.

ADDRESS: Hyatt at Fisherman's Wharf, 555 North Point St., San Francisco, CA 94133.

REGISTRATION AND INFORMATION CONTACT: For information on access or services for individuals with disabilities, please contact Alecia Crichlow at (202) 564-5188 or crichlow.alecia@epa.gov. To request accommodations of a disability, please contact Alecia Crichlow at least ten days prior to the meeting date.

Dated: June 27, 2008.
Charles Young,
Acting Director, Office of Enterprise, Technology and Innovation.

[FR Doc. E8-16265 Filed 7-15-08; 8:45 am]

BILLING CODE 6560-50-P